ENVIRONMENTAL PROTECTION AGENCY

[EPA-HQ-OPPT-2018-0175; FRL-9976-32]

Safer Choice Partner & Stakeholder Summit 2018; Notice of Public Meeting

AGENCY: Environmental Protection Agency (EPA).

ACTION: Notice.

SUMMARY: The EPA Safer Choice program will hold its third Safer Choice Partner & Stakeholder Summit. Safer Choice partners with manufacturers to label cleaning and other products so consumers and commercial buyers can easily find products with chemical ingredients that are safer for people and the environment. The Summit provides an opportunity for partners, purchasers, retailers, NGOs, trade associations, chemical manufacturers, and other interested stakeholders to collaborate on exploring issues and developing solutions that can advance Safer Choice. The meeting will include informational and breakout sessions, with a focus on dialogue and active participation.

DATES: The Safer Choice Partner & Stakeholder Summit 2018 will be held on May 14, 2018, from 8:00 a.m. to 5:00 p.m. EDT.

To request accommodation of a disability, please contact the technical person listed under FOR FURTHER INFORMATION CONTACT, preferably at least 10 days prior to the meeting, to give EPA as much time as possible to process your request.

ADDRESSES: The meeting will be held at the Gaylord National Resort & Convention Center, 201 Waterfront Street, Oxon Hill, MD 20745.

FOR FURTHER INFORMATION CONTACT: Tony Thompson, Chemistry, Economics and Sustainable Strategies Division (7406M), Office of Pollution Prevention and Toxics, Environmental Protection Agency, 1200 Pennsylvania Ave. NW, Washington, DC 20460-0001; telephone number: (202) 564-2296; email address: thompson.tony@epa.gov.

SUPPLEMENTARY INFORMATION:

I. General Information

A. Does this action apply to me?

You may be potentially affected by this action if you are a Safer Choice program partner or stakeholder. The following list of North American Industrial Classification System (NAICS) codes is not intended to be exhaustive, but rather provides a guide to help readers determine whether this document applies to them. Potentially affected entities may include:

NAICS Code Affected Industry

325510 Paint and Coating Manufacturing.

325611 Soap and Other Detergent Manufacturing.

325612 Polish and Other Sanitation Good Manufacturing.

325910 Printing Ink Manufacturing.

325992 Photographic Film, Paper, Plate, and Chemical Manufacturing.

325998 All Other Miscellaneous Chemical Product and Preparation.

Manufacturing

561210 Facilities Support Services.

561720 Janitorial Services.

561740 Carpet and Upholstery Cleaning Services.

611310 Colleges, Universities, and Professional Schools.

8123 Dry Cleaning and Laundry Services.

921190 Other General Government Support.

II. Background

EPA's mission is to protect the health of people and the environment. To further that mission, EPA certifies cleaning and other products so consumer and commercial buyers can easily find ones made with chemical ingredients that are safer for people and the environment. The Summit provides an opportunity to explore topics of importance to stakeholders and the program and a forum for dialogue on ways to continue to improve the program, advance safer chemistry, and increase awareness of the Safer Choice label.

III. How can I request to participate in this meeting?

Registration—To attend the Summit, you may register online here: https://www.eventbrite.com/e/us-epa-safer-choice-partner-stakeholder-summit-2018-registration-43987871909?aff.

Authority: 15 U.S.C. 2601 et seq.

Dated: April 5, 2018.
Charlotte Bertrand,
Acting Principal Deputy Assistant Administrator, Office of Chemical Safety and Pollution Prevention.

[FR Doc. 2018-07517 Filed 4-10-18; 8:45 am]

BILLING CODE 6560-50-P